DEPARTMENT OF TRANSPORTATION

Federal Aviation Administration

14 CFR Part 39

[Docket No. FAA-2006-26498; Directorate Identifier 2006-CE-83-AD]

RIN 2120-AA64

Airworthiness Directives; The Cessna Aircraft Company Models 208 and 208B Airplanes

AGENCY: Federal Aviation Administration (FAA), Department of Transportation (DOT).

ACTION: Notice of proposed rulemaking (NPRM).

SUMMARY: We propose to supersede Airworthiness Directive (AD) 2006-06-06, which applies to certain Cessna Aircraft Company (Cessna) Models 208 and 208B airplanes. AD 2006-06-06 currently requires you to incorporate information into the applicable section of the Airplane Flight Manual (AFM) and Pilot's Operating Handbook (POH) and requires installation of placards. Since we issued AD 2006-06-06, Cessna issued further revisions to the AFM Supplement S1 “Known Icing Equipment” and developed a low airspeed awareness system. Consequently, this proposed AD would require you to incorporate the AFM Supplement revisions, to install the low airspeed awareness system, and to retain the requirements of AD 2006-06-06 until the above requirements are incorporated. We are proposing this AD to assure that the pilot has enough information and the necessary equipment to prevent loss of control of the airplane while in flight during icing conditions.

DATES: We must receive comments on this proposed AD by March 5, 2007.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

For service information identified in this proposed AD, contact The Cessna Aircraft Company, Product Support, P.O. Box 7706, Wichita, Kansas 67277.

FOR FURTHER INFORMATION CONTACT: Robert P. Busto, Aerospace Engineer, Wichita Aircraft Certification Office, FAA, 1801 Airport Road, Wichita, Kansas 67209; telephone: (316) 946-4157; fax: (316) 946-4107.

SUPPLEMENTARY INFORMATION:

Comments Invited

We invite you to send any written relevant data, views, or arguments regarding this proposed AD. Send your comments to an address listed under the ADDRESSES section. Include the docket number, “FAA-2006-26498; Directorate Identifier 2006-CE-83-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

Several accidents/incidents with Cessna Models 208 and 208B airplanes during operations in icing conditions, including six accidents in the 2003/2004 icing season and nine accidents in the 2004/2005 icing season, caused us to issue AD 2005-07-01, Amendment 39-14025 (70 FR 15223), which required the incorporation of revisions into applicable section of the AFM, and AD 2006-01-11, Amendment 39-14450 (71 FR 16994). AD 2006-01-11 requires the installation of a pilot assist handle, pneumatic deicing boots on the cargo pod and landing gear struts, and changes to the Limitations Section of the AFM if the airplane is to be operated in ground icing conditions and approved for flight into known or forecast icing conditions. AD 2005-07-01 was superseded by AD 2006-06-06, Amendment 39-14514 (71 FR 13533, March 16, 2006). AD 2006-06-06 currently requires the following on certain Cessna Models 208 and 208B airplanes:

• Incorporation of revisions to the FAA-approved AFM and FAA-approved AFM Supplement S1 “Known Icing Equipment;”

• Incorporation of new text in the Limitations Section of the AFM and AFM Supplement; and

• Incorporation of new text in the Performance Section of the AFM Supplement and the fabrication and installation of placards.

AD 2006-06-06 was intended to be an interim action. Cessna has since published revisions to the AFM Supplement S1 “Known Icing Equipment,” which incorporates climb performance data in icing conditions. This data is to be used for preflight planning and as an in-flight limitation. AD 2006-06-06 included a limitation on autopilot use as an interim action until the development of an acceptable low speed awareness system. Cessna has issued service information introducing this system. Cessna has also developed specific training for operation of the Models 208 and 208B airplanes in icing conditions. This training is available on-line at: http://www.cessnaelearning.com or as part of the Cessna Winter Awareness Seminars.

If the pilot does not have enough information in the AFM or the necessary equipment to conduct safe flight into icing conditions, then loss of control could occur.

Relevant Service Information

We have reviewed Cessna Caravan Service Bulletin (SB) CAB06-8, dated September 18, 2006; Cessna Caravan SB CAB06-11, dated October 9, 2006; and Cessna Caravan Service Kit (SK) 208-171, dated October 9, 2006.

The service information includes the following:

• Cessna Caravan SB CAB06-8: revisions to the Pilot's Operating Handbook (POH) Supplement S1 “Known Icing Equipment” and installation instructions for installation of operational placards; and

• Cessna Caravan SB CAB06-11: announces the availability of a Service Kit which provides parts and instructions to install a new low airspeed awareness system.

• Cessna Caravan SK208-171: instructions for the installation of a new icing low speed awareness system.

In addition, Cessna has developed revisions to the AFM Supplement S1 “Known Icing Equipment” as follows:

Document | Affects
Revision 9 of the Model 208 (675 SHP) FAA-approved Flight Manual Supplement S1 “Known Icing Equipment,” Cessna document D1352-S1-09, dated August 24, 2006 | Cessna Model 208 airplanes with a Pratt & Whitney of Canada Ltd., PT6A-114A turboprop engine installed (675 SHP) or FAA-approved engine of equivalent or higher horsepower installed, equipped with airframe deicing pneumatic boots, that are not currently prohibited from flight in known or forecast icing.
Revision 8 of the Model 208 (600 SHP) FAA-approved Flight Manual Supplement S1 “Known Icing Equipment,” Cessna document D1307-S1-08, dated August 24, 2006 | Cessna Model 208 airplanes with a Pratt & Whitney of Canada Ltd., PT6A-114 turboprop engine installed (600 SHP) or FAA-approved engine of equivalent horsepower installed, equipped with airframe deicing pneumatic boots, that are not currently prohibited from flight in known or forecast icing.
Revision 9 of the 208B (675 SHP) FAA-approved Flight Manual Supplement S1 “Known Icing Equipment,” Cessna document D1329-S1-09, dated August 24, 2006 | Cessna Model 208B airplanes with a Pratt & Whitney of Canada Ltd., PT6A-114A turboprop engine installed (675 SHP) or FAA-approved engine of equivalent or higher horsepower installed, equipped with airframe deicing pneumatic boots, that are not currently prohibited from flight in known or forecast icing.
Revision 9 of the 208B (600 SHP) FAA-approved Flight Manual Supplement S1 “Known Icing Equipment,” Cessna document D1309-S1-09, dated August 24, 2006 | Cessna Model 208B airplanes with a Pratt & Whitney of Canada Ltd., PT6A-114 turboprop engine installed (600 SHP) or FAA-approved engine of equivalent horsepower installed, equipped with airframe deicing pneumatic boots, that are not currently prohibited from flight in known or forecast icing.

FAA's Determination and Requirements of the Proposed AD

We are proposing this AD because we evaluated all information and determined the unsafe condition described previously is likely to exist or develop on other products of the same type design. This proposed AD would supersede AD 2006-06-06 with a new AD that would:

• Require the actions in the previously referenced service information; and

• Retain the actions of AD 2006-06-06 until the above requirements are incorporated.

Costs of Compliance

We estimate that this proposed AD would affect 765 airplanes in the U.S. registry.

We estimate the following costs to do the proposed actions:

Labor cost | Parts cost | Total cost per airplane | Total cost on U.S. operators
22 work-hours × $80 per hour = $1,760 | $6,440 | $8,200 | $6,273,000

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2006-06-06, Amendment 39-14514, (71 FR 13533, March 16, 2006), and adding the following new AD:

Cessna Aircraft Company: Docket No. FAA-2006-26498; Directorate Identifier 2006-CE-83-AD.

Comments Due Date

(a) We must receive comments on this airworthiness directive (AD) action by March 5, 2007.

Affected ADs

(b) This AD supersedes AD 2006-06-06, Amendment 39-14514.

Applicability

(c) This AD applies to Models 208 and 208B, all serial numbers that are certificated in any category.

Unsafe Condition

(d) This AD results from our determination that further revisions to the Airplane Flight Manual (AFM) Supplement S1 “Known Icing Equipment” are necessary, and the installation of a low airspeed awareness system is required. We are issuing this AD to assure that the pilot has enough information and the necessary equipment to prevent loss of control of the airplane while in-flight during icing conditions.

New Actions Required by This AD

(e) Within the next 30 days after the effective date of this AD, do the following, unless already done:

(1) For all Model 208 and 208B aircraft not currently restricted from flight into known or forecast icing: Install a low airspeed awareness system following the instructions in Cessna Service Bulletin CAB06-11 and Service Kit SK 208-171, both dated October 9, 2006.

(2) Incorporate the following revisions to the AFM Supplement S1 “Known Icing Equipment” as applicable:

Document | Affects
(i) Revision 9 of the Model 208 (675 SHP) FAA-approved Flight Manual Supplement S1 “Known Icing Equipment,” Cessna document D1352-S1-09, dated August 24, 2006 | Cessna Model 208 airplanes with a Pratt & Whitney of Canada Ltd., PT6A-114A turboprop engine installed (675 SHP) or FAA-approved engine of equivalent or higher horsepower installed, equipped with airframe deicing pneumatic boots, that are not currently prohibited from flight in known or forecast icing.
(ii) Revision 8 of the Model 208 (600 SHP) FAA-approved Flight Manual Supplement S1 “Known Icing Equipment,” Cessna document D1307-S1-08, dated August 24, 2006 | Cessna Model 208 airplanes with a Pratt & Whitney of Canada Ltd., PT6A-114 turboprop engine installed (600 SHP) or FAA-approved engine of equivalent horsepower installed, equipped with airframe deicing pneumatic boots, that are not currently prohibited from flight in known or forecast icing.
(iii) Revision 9 of the Model 208B (675 SHP) FAA-approved Flight Manual Supplement S1 “Known Icing Equipment,” Cessna document D1329-S1-09, dated August 24, 2006 | Cessna Model 208B airplanes with a Pratt & Whitney of Canada Ltd., PT6A-114A turboprop engine installed (675 SHP) or FAA-approved engine of equivalent or higher horsepower installed, equipped with airframe deicing pneumatic boots, that are not currently prohibited from flight in known or forecast icing.
(iv) Revision 9 of the Model 208B (600 SHP) FAA-approved Flight Manual Supplement S1 “Known Icing Equipment,” Cessna document D1309-S1-09, dated August 24, 2006 | Cessna Model 208B airplanes with a Pratt & Whitney of Canada Ltd., PT6A-114 turboprop engine installed (600 SHP) or FAA-approved engine of equivalent horsepower installed, equipped with airframe deicing pneumatic boots, that are not currently prohibited from flight in known or forecast icing.

(3) For all Model 208 and 208B aircraft equipped with pneumatic deicing boots, and not currently restricted from flight into known or forecast icing: incorporate the following information in the Limitations Section of the Airplane Flight Manual (AFM) Supplement S1 “Known Icing Equipment” to require pilot training before further flight into known or forecast icing conditions. The owner/operator holding at least a private pilot certificate as authorized by section 43.7 of the Federal Aviation Regulations (14 CFR 43.7) may insert the information into the POH specified in paragraphs (e)(3)(i) and (e)(3)(ii) of this AD. You may insert a copy of this AD into the appropriate sections of the POH to comply with this action. Make an entry into the aircraft records showing compliance with this portion of the AD in accordance with section 43.9 of the Federal Aviation Regulations (14 CFR 43.9):

(i) “The pilot-in-command must successfully complete specific training for flight into icing conditions provided by Cessna Aircraft Company within the 12 calendar months preceding any flight into known or forecast icing conditions.

Completion of either of the following courses will meet this training requirement:

Caravan Cold Wx Ops Onsite—C14694—(CAC 14694)

Caravan Cold Wx Ops Online—C14695—(CAC 14695)”

(ii) “Note: The three-hour, on-line training course became available on October 2, 2006, at: http://www.cessnaelearning.com. The three-hour on-site training courses are scheduled annually in October at various locations and provided by Cessna Aircraft Company at no cost as part of the Cessna Winter Awareness Seminars. Confirmation of pilot training completion will be maintained by Cessna Aircraft Company. Please note that all operators of the affected airplanes must initiate action to notify and ensure that flight crewmembers are aware of this requirement.”

(f) The actions in paragraphs (g) and (h) below are retained in this AD from AD 2006-06-06. The new actions required by this AD in paragraph (e) above terminates the requirement for the actions in paragraphs (g) and (h).

(g) No later than March 27, 2006 (3 days after March 24, 2006, which is the effective date of AD 2006-06-06), incorporate the following revisions into the Airplane Flight Manual (AFM), unless already accomplished:

Affected airplanes | Incorporate the following AFM revision document
(1) Cessna Model 208 airplanes and Model 208B airplanes, all serial numbers | Section 2: Limitations and Section 4: Normal Procedures: Temporary Revision 208PHTR05, dated June 27, 2005, to the POH and FAA-approved AFM.
(2) Cessna Model 208 airplanes with a Pratt & Whitney of Canada Ltd., PT6A-114A turboprop engine installed (675 SHP) or FAA-approved engine of equivalent horsepower installed, equipped with airframe deicing pneumatic boots, that are not currently prohibited from flight in known or forecast icing | Section 9: Optional Systems Description and Operating Procedures: Revision 6 of the 208 (675 SHP) POH/FAA-approved AFM Supplement S1 “Known Icing Equipment,” Cessna document D1352-S1-06, dated June 27, 2005.
(3) Cessna Model 208 airplanes with a Pratt & Whitney of Canada Ltd., PT6A-114 turboprop engine installed (600 SHP) or FAA-approved engine of equivalent horsepower installed, equipped with airframe deicing pneumatic boots, that are not currently prohibited from flight in known or forecast icing | Section 9: Optional Systems Description and Operating Procedures: Revision 6 of the Cessna Model 208 (600 SHP) POH/FAA-approved AFM Supplement S1 “Known Icing Equipment,” Cessna document D1307-S1-06, dated June 27, 2005.
(4) Cessna Model 208B airplanes with a Pratt & Whitney of Canada Ltd., PT6A-114A turboprop engine installed (675 SHP) or FAA-approved engine of equivalent horsepower installed, equipped with airframe deicing pneumatic boots, that are not currently prohibited from flight in known or forecast icing | Section 9: Optional Systems Description and Operating Procedures: Revision 7 of the 208B (675 SHP) POH/FAA-approved AFM Supplement S1 “Known Icing Equipment,” Cessna document D1329-S1-07, dated June 27, 2005.
(5) Cessna Model 208B airplanes with a Pratt & Whitney of Canada Ltd., PT6A-114 turboprop engine installed (600 SHP) or FAA-approved engine of equivalent horsepower installed, equipped with airframe deicing pneumatic boots, that are not currently prohibited from flight in known or forecast icing | Section 9: Optional Systems Description and Operating Procedures: Revision 6 of the 208B (600 SHP) POH/FAA-approved AFM Supplement S1 “Known Icing Equipment,” Cessna document D1309-S1-06, dated June 27, 2005.

(h) You must do the following actions, unless already done. These changes are to the POH and FAA-approved AFM and to the POH/FAA-approved AFM Supplement S1 “Known Icing Equipment” mandated in paragraph (g) of this AD:

Actions | Compliance | Procedures
(1) For Cessna Model 208 airplanes and Model 208B airplanes, all serial numbers, equipped with airframe deicing pneumatic boots, that are not currently prohibited from flight in known or forecast icing: You are prohibited from continued flight after encountering moderate or greater icing conditions. The airplane can dispatch into forecast areas of icing but must exit moderate or greater icing conditions if encountered | No later than March 27, 2006 (3 days after March 24, 2006, which is the effective date of AD 2006-06-06) | Not Applicable.
(2) For Cessna Model 208 airplanes and Model 208B airplanes, all serial numbers, equipped with airframe deicing pneumatic boots, that are not currently prohibited from flight in known or forecast icing: (i) Insert the text in Appendix 1 of this AD preceding the KINDS OF OPERATION LIMITS paragraph in the LIMITATIONS section of the Cessna Models 208 or 208B POH and FAA-approved AFM. (ii) Insert the text in Appendix 2 of this AD in the LIMITATIONS section of the Cessna Models 208 or 208B POH and FAA-approved AFM KNOWN ICING EQUIPMENT SUPPLEMENT S1 at the beginning of the paragraph “REQUIRED EQUIPMENT.” | No later than March 27, 2006 (3 days after March 24, 2006, which is the effective date of AD 2006-06-06) | The owner/operator holding at least a private pilot certificate as authorized by section 43.7 of the Federal Aviation Regulations (14 CFR 43.7) may insert the information into the POH/AFM as specified in paragraph (h)(2) of this AD. You may insert a copy of this AD into the appropriate sections of the POH/AFM to comply with this action. Make an entry into the aircraft records showing compliance with portion of the AD in accordance with section 43.9 of the Federal Aviation Regulations (14 CFR 43.9).
(3) For Cessna Model 208 airplanes and Model 208B airplanes, all serial numbers, equipped with airframe deicing pneumatic boots, that are not currently prohibited from flight in known or forecast icing: Install 3 placards with black letters on a white background. The placards shall be located on the instrument panel in one of the following areas: under the radio stack, immediately above the pilot's flight instruments, or below the pilot's vertical speed indicator. Lettering on the placard shall be a minimum height of ⅛-inch (i) Placard 1 shall include the text of Appendix 3 of this AD. (ii) Placard 2 shall include the following text: “120 KIAS Minimum in Icing Flaps Up except 110 KIAS if Climbing to Exit Icing.” (iii) Placard 3 shall include the following text: “Disconnect autopilot at first indication of ice accretion.” | No later than March 27, 2006 (3 days after March 24, 2006, which is the effective date of AD 2006-06-06) | The owner/operator holding at least a private pilot certificate as authorized by section 43.7 of the Federal Aviation Regulations (14 CFR 43.7) may install the placards as specified in paragraph (h)(3) of this AD. Make an entry into the aircraft records showing compliance with portion of the AD in accordance with section 43.9 of the Federal Aviation Regulations (14 CFR 43.9).
(4) For Cessna Model 208 airplanes and Model 208B airplanes, all serial numbers, equipped with airframe deicing pneumatic boots, that are not currently prohibited from flight in known or forecast icing: (i) Insert the text in Appendix 4 of this AD under the “AIRSPEED LIMITATIONS” paragraph in the LIMITATIONS section of the Cessna Models 208 or 208B POH and FAA-approved AFM. (ii) Replace the text in the KNOWN ICING EQUIPMENT SUPPLEMENT S1 under the “MINIMUM SPEED IN ICING CONDITIONS” paragraph with the text in Appendix 4. (iii) Insert the following text in the LIMITATIONS section of the POH/AFM under the “OTHER LIMITATIONS” paragraph and in the LIMITATIONS section of the KNOWN ICING EQUIPMENT SUPPLEMENT S1 under the “AUTOPILOT OPERATION IN ICING CONDITIONS” paragraph: “Disconnect autopilot at first indication of ice accretion.” | No later than March 27, 2006 (3 days after March 24, 2006, which is the effective date of AD 2006-06-06) | The owner/operator holding at least a private pilot certificate as authorized by section 43.7 of the Federal Aviation Regulations (14 CFR 43.7) may insert the information into the POH/AFM as specified in paragraph (h)(4) of this AD. You may insert a copy of this AD into the appropriate sections of the POH/AFM to comply with this action. Make an entry into the aircraft records showing compliance with portion of the AD in accordance with section 43.9 of the Federal Aviation Regulations (14 CFR 43.9).
(5) For Cessna Model 208 airplanes and Model 208B airplanes, all serial numbers, equipped with airframe deicing pneumatic boots, that are not currently prohibited from flight in known or forecast icing: (i) Replace the text in the PERFORMANCE section of the Cessna Models 208 or 208B POH and FAA-approved AFM KNOWN ICING EQUIPMENT SUPPLEMENT S1 under the “STALL SPEEDS” paragraph with the text in Appendix 5. (ii) Replace the “WARNING” text in the LIMITATIONS section of the Cessna Models 208 or 208B POH and FAA-approved AFM KNOWN ICING EQUIPMENT SUPPLEMENT S1 under “ENVIRONMENTAL CONDITIONS” with: “FLIGHT IN THESE CONDITIONS ARE PROHIBITED.” (iii) Replace the last two sentences in the LIMITATIONS section of the Cessna Models 208 or 208B POH and FAA-approved AFM KNOWN ICING EQUIPMENT SUPPLEMENT S1 under “ENVIRONMENTAL CONDITIONS” with the following text: “Exit strategies should be determined during pre-flight planning.” | No later than March 27, 2006 (3 days after March 24, 2006, which is the effective date of AD 2006-06-06) | The owner/operator holding at least a private pilot certificate as authorized by section 43.7 of the Federal Aviation Regulations (14 CFR 43.7) may insert the information into the POH/AFM as specified in paragraph (h)(5) of this AD. You may insert a copy of this AD into the appropriate sections of the POH/AFM to comply with this action. Make an entry into the aircraft records showing compliance with portion of the AD in accordance with section 43.9 of the Federal Aviation Regulations (14 CFR 43.9).

Alternative Methods of Compliance (AMOCs)

(i) The Manager Wichita Aircraft Certification Office (ACO), FAA, ATTN: Robert P. Busto, Aerospace Engineer, Wichita Aircraft Certification Office, FAA, 1801 Airport Road, Wichita, Kansas 67209; telephone: (316) 946-4157; fax: (316) 946-4107, has the authority to approve AMOCs for this AD, if requested using the procedures found in 14 CFR 39.19.

Related Information

(j) To get copies of the service information referenced in this AD, contact: The Cessna Aircraft Company, Product Support, P.O. Box 7706, Wichita, Kansas 67277. To view the AD docket, go to the Docket Management Facility; U.S. Department of Transportation, 400 Seventh Street, SW., Nassif Building, Room PL-401, Washington, DC, or on the Internet at http://dms.dot.gov. The docket number is Docket No. FAA-2006-26498; Directorate Identifier 2006-CE-83-AD.

Appendix 1 Retained From AD 2006-06-06

Changes to the Cessna Models 208 or 208B Pilot's Operating Handbook (POH) and FAA-Approved Airplane Flight Manual (AFM)

Affected Cessna Models 208 or 208B POH and FAA-Approved AFM

Insert the following text at the beginning of the KINDS OF OPERATION LIMITS paragraph in the LIMITATIONS section of the Cessna Models 208 or 208B POH and FAA-approved AFM. This may be done by inserting a copy of this AD into the POH/AFM:

“Continued flight after encountering moderate or greater icing conditions is prohibited. One or more of the following defines moderate icing conditions for this airplane:

Indicated airspeed in level cruise flight at constant power decreases by 20 knots. Engine torque required to maintain airspeed increases by 400 ft. lbs. Airspeed of 120 KIAS cannot be maintained in level flight. An accretion of ¼-inch of ice is observed on the wing strut.

Disregard any mention of approval for flight in icing conditions within the POH/AFM.”

Appendix 2 Retained From AD 2006-06-06

Changes to the Cessna Models 208 or 208B Pilot's Operating Handbook (POH) and FAA-Approved Airplane Flight Manual (AFM)

Affected Cessna Models 208 or 208B POH and FAA-Approved AFM

Insert the following text in the LIMITATIONS section of the POH and FAA-approved AFM KNOWN ICING EQUIPMENT SUPPLEMENT S1, at the beginning of the paragraph “REQUIRED EQUIPMENT.” This may be done by inserting a copy of this AD into the POH/AFM:

“Continued flight after encountering moderate or greater icing conditions is prohibited. One or more of the following defines moderate icing conditions for this airplane:

Indicated airspeed in level flight at constant power decreases by 20 knots. Engine torque required to maintain airspeed increases by 400 ft. lbs. Airspeed of 120 KIAS cannot be maintained in level flight. An accretion of ¼-inch of ice is observed on the wing strut.

Disregard any mention of approval for flight in icing conditions within the POH/AFM.”

Appendix 3 Retained From AD 2006-06-06

Cessna Model 208 Airplanes and Model 208B Airplanes, Equipped With Airframe Deicing Pneumatic Boots, That Are Not Currently Prohibited From Flight in Known or Forecast Icing

Install a placard with black letters on a white background. The placard shall be located on the instrument panel in one of the following areas: Under the radio stack, immediately above the pilot's flight instruments, or below the pilot's vertical speed indicator. Lettering on the placard shall be a minimum ⅛-inch tall and state the following:

“Continued flight after encountering moderate or greater icing conditions is prohibited. One or more of the following defines moderate icing conditions for this airplane:

Airspeed in level flight at constant power decreases by 20 KIAS. Engine torque required to maintain airspeed increases by 400 ft. lbs. 120 KIAS cannot be maintained in level flight.

Ice accretion of ¼ inch observed on the wing strut.”

Appendix 4 Retained From AD 2006-06-06

Changes to the Cessna Models 208 or 208B Pilot's Operating Handbook (POH) and FAA-Approved Airplane Flight Manual (AFM) Supplement S1

Affected Cessna Models 208 or 208B POH and FAA-Approved AFM and FAA-Approved Supplement S1

Insert the following text into the LIMITATIONS section under the “AIRSPEED LIMITATIONS” paragraph of the Cessna Models 208 or 208B POH and FAA-approved AFM, and replace the text in the KNOWN ICING EQUIPMENT SUPPLEMENT S1 under the “MINIMUM SPEED IN ICING CONDITIONS” paragraph with the following text. This may be done by inserting a copy of this AD into the POH/AFM:

“Minimum airspeed in icing conditions, for all flight phases including approach, except takeoff and landing:

Flaps up: 120 KIAS

Flaps 10°: 105 KIAS

Flaps 20°: 95 KIAS

Exception for flaps up: when climbing to exit icing conditions airspeed can be reduced to 110 KIAS minimum.

Flaps must be extended during all phases (takeoff and landing included) at airspeeds below 110 KIAS, except adhere to published AFM procedures when operating with ground deicing/anti-icing fluid applied.

WARNING

The aural stall warning system does not function properly in all icing conditions and should not be relied upon to provide adequate stall warning when in icing conditions.”

Note: These are minimum speeds for operations in icing conditions. Disregard any reference to the original speeds within the POH/AFM.

Appendix 5 Retained From AD 2006-06-06

Changes to the Cessna Models 208 or 208B Pilot's Operating Handbook (POH) and FAA-Approved Airplane Flight Manual (AFM) Supplement S1

Replace the text in the PERFORMANCE section of the POH/AFM KNOWN ICING EQUIPMENT SUPPLEMENT S1 under the “STALL SPEEDS” paragraph with the following text:

“Ice accumulation on the airframe may result in a 20 KIAS increase in stall speed. Either buffet or aural stall warning should be treated as an imminent stall.”

“WARNING—The aural stall warning system does not function properly in all icing conditions and should not be relied upon to provide adequate stall warning when in icing conditions.”

Issued in Kansas City, Missouri, on January 25, 2007.
Kim Smith,
Manager, Small Airplane Directorate, Aircraft Certification Service.

[FR Doc. E7-1604 Filed 1-31-07; 8:45 am]

BILLING CODE 4910-13-P